FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011463-006.

Title: East Coast of North America to West Coast of South America and Caribbean Cooperative Working Agreement.

Parties: Compania Sud Americana de Vapores S.A.; Hamburg-Sud; and Compania Chilena de Navagacion Interoceania, S.A.

Filing Party: Walter M. Lion, Esq.; McLaughlin & Stern, LLP; 260 Madison Avenue; New York, N.Y. 10018.

Synopsis: The amendment deletes APL CO. PTE Ltd. as a party to the agreement and makes various corresponding changes in the agreement. The parties request expedited review.

Agreement No.: 011701-008.

Title: Pacific East Coast Express Agreement.

Parties: China Shipping Container Lines Co., Ltd.; China Shipping Container Lines (Hong Kong) Co., Ltd.; CMA CGM, S.A.; P&O Nedlloyd B.V.; and P&O Nedlloyd Limited; Filing Party: Brett M. Esber, Esq.; Blank Rome LLP; Watergate 600 New Hampshire Avenue, NW; Washington, DC 20037.

Synopsis: The amendment adds CSCL (Hong Kong) as a party to the agreement. The parties request expedited review.

Agreement No.: 011850-001.

Title: CMA CGM/CSCL Cross Space Charter, Sailing and Cooperative Working Agreement—North China, Japan/USWC Loop Agreement.

Parties: China Shipping Container Lines Co., Ltd.; China Shipping Container Lines (Hong Kong) Co., Ltd.; and CMA CGM, S.A. Filing Party: Brett M. Esber, Esq.; Blank Rome LLP; Watergate 600 New Hampshire Avenue, NW; Washington, DC 20037.

Synopsis: The amendment adds CSCL (Hong Kong) as a party to the agreement. The parties request expedited review.

Agreement No.: 011851-001.

Title: CMA-CGM/CSL PGX Slot Charter Agreement.

Parties: China Shipping Container Lines (Hong Kong) Co., Ltd.; China Shipping Container Lines Co., Ltd.; and CMA CGM, S.A.

Filing Party: Brett M. Esber, Esq.; Blank Rome LLP; Watergate 600 New Hampshire Avenue, NW; Washington, DC 20037.

Synopsis: The amendment adds CSCL (Hong Kong) as a party to the agreement. The parties request expedited review.

By Order of the Federal Maritime Commission.
Bryant L. VanBrakle,
Secretary.

[FR Doc. 04-26991 Filed 12-7-04; 8:45 am]

BILLING CODE 6730-01-P